DEPARTMENT OF COMMERCE

Foreign-Trade Zones Board

[Docket 64-2010]

Foreign-Trade Zone 78—Nashville, TN; Application for Expansion

An application has been submitted to the Foreign-Trade Zones Board (the Board) by the Metropolitan Government of Nashville and Davidson County, grantee of FTZ 78, requesting authority to expand FTZ 78 to include sites in La Vergne, Clarksville and Gallatin, Tennessee. The application was submitted pursuant to the provisions of the Foreign-Trade Zones Act, as amended (19 U.S.C. 81a-81u), and the regulations of the Board (15 CFR part 400). It was formally filed on November 5, 2010.

FTZ 78 was approved by the Board on April 2, 1982 (Board Order 190, 47 FR 16191, 4/15/82) and expanded on February 18, 1999 (Board Order 1024, 64 FR 9472, 2/26/1999), October 24, 2000 (Board Order 1124, 65 FR 66231, 11/03/2000), and September 30, 2002 (Board Order 1249, 67 FR 62697, 10/08/2002). The current zone project includes the following sites: Site 1 (1.2 acres)—General-Warehousing Space, 750 Cowan Street, Nashville; Site 2 (57.0 acres)—Cockrill Bend Industrial Park, 7355 Cockrill Bend Boulevard, Nashville; Site 3 (9.2 acres)—Irish Express Way Logistics, 323 Mason Road, La Vergne; Site 4 (39 acres)—Space Park North Industrial Park, 1000 Cartwright Street, Goodlettsville; Site 5 (19 acres)—Old Stone Bridge Industrial Park, Old Stone Bridge, Goodlettsville; Site 6 (806 acres)—Nashville International Airport, One Terminal Drive, Nashville; and Site 7 (80 acres)—Eastgate Business Park, 3850 Eastgate Boulevard, Lebanon.

The applicant is requesting authority to expand the zone to include sites in La Vergne, Clarksville and Gallatin, Tennessee: Proposed Site 8 (55.0 acres)—Ozburn-Hessey Logistics, 300 New Sanford Road, La Vergne; Proposed Site 9 (1,546.0 acres)—Clarksville Commerce Park, between Highway 79 and Rossview Road on International Boulevard, Clarksville; Proposed Site 10 (139.0 acres)—River Chase Barge Port, 41A Bypass and Beacon Road, Clarksville; Proposed Site 11 (500.0 acres)—Nyrstar Company, 1800 Zinc Plant Road, Clarksville; and Proposed Site 12 (451.0 acres)—Gallatin Industrial Center, Airport Road and Gateway Drive, Gallatin. The sites will provide warehousing and distribution services to area businesses. No specific manufacturing authority is being requested at this time. Such requests would be made to the Board on a case-by-case basis.

In accordance with the Board's regulations, Maureen Hinman of the FTZ Staff is designated examiner to evaluate and analyze the facts and information presented in the application and case record and to report findings and recommendations to the Board.

Public comment is invited from interested parties. Submissions (original and 3 copies) shall be addressed to the Board's Executive Secretary at the address below. The closing period for their receipt is January 11, 2011. Rebuttal comments in response to material submitted during the foregoing period may be submitted during the subsequent 15-day period to January 26, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Maureen Hinman at maureen.hinman@trade.gov or (202) 482-0627.

Dated: November 5, 2010.
Andrew McGilvray,
Executive Secretary.

[FR Doc. 2010-28573 Filed 11-10-10; 8:45 am]

BILLING CODE P